DEPARTMENT OF THE TREASURY

Internal Revenue Service

Proposed Collection; Comment Request for Notice 2023-18, Qualified Advanced Energy Project Credit

AGENCY: Internal Revenue Service (IRS), Treasury.

ACTION: Notice and request for comments.

SUMMARY: The Internal Revenue Service, as part of its continuing effort to reduce paperwork and respondent burden, invites the general public and other Federal agencies to take this opportunity to comment on proposed and/or continuing information collections, as required by the Paperwork Reduction Act of 1995. Currently, the IRS is soliciting comments concerning Notice 2023-18, Qualified Advanced Energy Project Credit.

DATES: Written comments should be received on or before November 17, 2023 to be assured of consideration.

ADDRESSES: Direct all written comments to Andres Garcia, Internal Revenue Service, Room 6526, 1111 Constitution Avenue NW, Washington, DC 20224, or by email to pra.comments@irs.gov. Include OMB Control No. 1545-2151 in the subject line of the message.

FOR FURTHER INFORMATION CONTACT: Requests for additional information or copies of this collection should be directed to Andres Garcia, 202-317-4542, at Internal Revenue Service, Room 6526, 1111 Constitution Avenue NW, Washington, DC 20224, or through the internet at andres.garcia@irs.gov.

SUPPLEMENTARY INFORMATION:

Title: Qualifying Advanced Energy Project Credit.

OMB Number: 1545-2151.

Notice Numbers: Notice 2023-18.

Abstract: This notice establishes the program under § 48C(e)(1) of the Internal Revenue Code to allocate $10 billion of credits ($4 billion of which may only be allocated to projects located in certain energy communities) for qualified investments in eligible qualifying advanced energy projects (§ 48C(e) program). A qualifying advanced energy project re-equips, expands, or establishes a manufacturing facility for the production of certain energy related property. A taxpayer must submit, for each qualifying advanced energy project: (1) a concept paper for Department of Energy (DOE) consideration and (2) a § 48C(e) application (consisting of (i) an application for DOE recommendation and (ii) an application for § 48C(e) certification). To be eligible to claim any § 48C credits allocated to a project under the § 48C(e) program, a taxpayer must also provide to DOE (1) evidence establishing that a project satisfies the certification requirements specified in Notice 2023-18 and (2) a notification that the project has been placed in service.

Current Actions: There is no change in the paperwork burden previously approved by OMB. This notice is being submitted for renewal purposes only.

Type of Review: Extension of a currently approved collection.

Affected Public: Business or other for-profit.

Concept Papers

Estimated Number of Respondents: 2,500.

Estimated Average Time per Respondent: 2.2667 hrs. (136 minutes).

Estimated Total Annual Burden Hours: 5,667 hrs.

Application Process

Estimated Number of Respondents: 2,500.

Estimated Average Time per Respondent: 10.4333 hrs. (626 minutes).

Estimated Total Annual Burden Hours: 26,083 hrs.

The following paragraph applies to all the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments: Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: September 12, 2023.
Andres Garcia Leon,
Supervisory Tax Analyst.

[FR Doc. 2023-20057 Filed 9-15-23; 8:45 am]

BILLING CODE 4830-01-P